DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of March 21, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Federal Emergency Management Agency, Department of Homeland Security.

Community | Community map repository address
Coconino County, Arizona and Incorporated Areas
Docket No.: FEMA B-2156
City of Sedona | Community Development Department, 102 Roadrunner Drive, Sedona, AZ 86336.
Unincorporated Areas of Coconino County | Coconino County Community Development Department, 2500 North Fort Valley Road, Building 1, Flagstaff, AZ 86001.
Boone County, Kentucky and Incorporated Areas
Docket No.: FEMA-B-2185
City of Florence | Boone County Administration Building, 2950 Washington Street, Room 312, Burlington, KY 41005.
City of Union | Boone County Administration Building, 2950 Washington Street, Room 312, Burlington, KY 41005.
City of Walton | Boone County Administration Building, 2950 Washington Street, Room 312, Burlington, KY 41005.
Unincorporated Areas of Boone County | Boone County Administration Building, 2950 Washington Street, Room 312, Burlington, KY 41005.
Carroll County, Kentucky and Incorporated Areas
Docket No.: FEMA-B-2185
City of Carrollton | Carroll County Emergency Operation Center, 829 Polk Street, Carrollton, KY 41008.
City of Ghent | Carroll County Emergency Operation Center, 829 Polk Street, Carrollton, KY 41008.
Unincorporated Areas of Carroll County | Carroll County Emergency Operation Center, 829 Polk Street, Carrollton, KY 41008.
Gallatin County, Kentucky and Incorporated Areas
Docket No.: FEMA-B-2185
City of Glencoe | Gallatin County Courthouse, 200 Washington Street, Warsaw, KY 41095.
City of Warsaw | Gallatin County Courthouse, 200 Washington Street, Warsaw, KY 41095.
Cayuga County, New York (All Jurisdictions)
Docket No.: FEMA-B-2173
Town of Sterling | Town Hall, 1290 State Route 104A, Sterling, NY 13156.
Village of Fair Haven | Fair Haven Village Office, 14523 Cayuga Street, Fair Haven, NY 13064.
Oconto County, Wisconsin and Incorporated Areas
Docket No.: FEMA-B-2120
City of Oconto | City Hall, 1210 Main Street, Oconto, WI 54153.
Unincorporated Areas of Oconto County | Oconto County Courthouse, 301 Washington Street, Oconto, WI 54153.

[FR Doc. 2022-25909 Filed 11-25-22; 8:45 am]

BILLING CODE 9110-12-P